ENVIRONMENTAL PROTECTION AGENCY

[FRL-8027-2]

Science Advisory Board Staff Office; Notification of Three Public Teleconferences and a Meeting of the Science Advisory Board EPI Suite Review Panel

AGENCY: Environmental Protection Agency (EPA).

ACTION: Notice.

SUMMARY: The EPA Science Advisory Board (SAB) Staff Office announces three public teleconferences and a face-to-face meeting of the SAB EPI Suite Review Panel to review software developed by the Office of Pollution Prevention and Toxics known as the Estimation Programs Interface (EPI) Suite. An agenda and documents for this teleconference will be posted on the SAB Web site at: http://www.epa.gov/sab prior to the call.

DATES: Public teleconferences of the SAB EPI Suite Review Panel will be held on Wednesday, February 22, 2006, Wednesday, March 1, 2006, and Wednesday, April 5, 2006, from 1 p.m. to 3 p.m. eastern standard time. The face-to-face public meeting will be held March 7-9, 2006, from 9 a.m to 5:30 p.m. eastern standard time.

ADDRESSES: The public teleconferences will take place via telephone only. The public face-to-face meeting will be held at the SAB Conference Center, 1025 F Street, NW., Suite 3700, Washington, DC 20004.

FOR FURTHER INFORMATION CONTACT: General information concerning the SAB can be found on the SAB Web Site at: http://www.epa.gov/sab. Members of the public who wish to obtain the call-in number and access code for the teleconferences, or further information concerning the public face-to-face meeting may contact Ms. Kathleen White, Designated Federal Officer (DFO), by mail at EPA SAB Staff Office (1400F), U.S. EPA, 1200 Pennsylvania Avenue, NW., Washington, DC 20460; by telephone at (202) 343-9878; by fax at (202) 233-0643; or by e-mail at white.kathleen@epa.gov. Technical Contact: For questions and information concerning the software being reviewed, please contact Dr. Robert Boethling, U.S. Environmental Protection Agency, by telephone (202) 564-8533; or by e-mail at boethling.bob@epa.gov.

SUPPLEMENTARY INFORMATION: The SAB was established by 42 U.S.C. 4365 to provide independent scientific and technical advice, consultation, and recommendations to the EPA Administrator on the technical basis for Agency positions and regulations. The SAB has been asked to review software developed by the Office of Pollution Prevention and Toxics known as the Estimation Programs Interface (EPI) Suite and has formed a specialized EPI Suite Review Panel for this purpose as previously announced (70 FR 4846, January 31, 2005).

The Panel will comply with the provisions of the Federal Advisory Committee Act (FACA) and all appropriate SAB procedural policies. EPI Suite is routinely used in evaluating new chemicals under EPA's Premanufacture Notices (PMNs) for new chemicals under section 5 of the Toxic Substances Control Act, and is widely used for predicting physical/chemical properties and environmental fate and transport properties for chemicals already in commerce. A more extensive description of EPI Suite can be found at: http://www.epa.gov/opptintr/exposure/docs/episuite.htm. EPI Suite can be downloaded from http://www.epa.gov/opptintr/exposure/docs/EPISuitedl.htm.

The purpose of the teleconference on February 22, 2006, is to prepare the Panel for the review through briefings and a discussion and clarification of the charge. The purpose of the March 1, 2006, teleconference is to prepare the Panel and the Agency for the face-to-face meeting by responding to panelists' preliminary questions and identifying areas where additional information is needed. The purpose of the March 7-9, 2006, face-to-face meeting is for the Panel to reach consensus on the content of their response to the charge questions, to capture that consensus in writing, to brief the Agency on the major findings and conclusions, and to respond to Agency questions. The purpose of the April 5, 2006, teleconference is to provide the panelists with an opportunity to discuss their draft report and agree to final language. Subsequently, the Panel's report will be considered by the Board and transmitted to the Administrator.

Procedures for Providing Public Input: Members of the public may submit relevant written or oral information for the EPI Suite Review Panel to consider during the advisory process.

Oral Statements: In general, individuals or groups requesting an oral presentation at a public teleconference will be limited to three minutes per speaker with no more than a total of thirty minutes for all speakers. In general, individuals or groups requesting an oral presentation at a face-to-face meeting will be limited to five to ten minutes with no more than two hours for all speakers. Those interested should contact Ms. White (preferably via e-mail) no later than seven days before the meeting date to be placed on the public speaker list. Written Statements: Written statements should be received in the SAB Staff Office at least seven days before the meeting so that the comments may be made available to the Panel for timely consideration. Comments should be supplied to the DFO in the following formats: One hard copy with original signature by mail, and one electronic copy by e-mail (acceptable file format: Adobe Acrobat PDF, WordPerfect, MSWord, MSPowerPoint or Rich Text files in IBM-PC/Windows 98/2000/XP format).

Accessibility: For information on access or services for people with disabilities, please contact Ms. Kathleen White at 202-343-9878 or white.kathleen@epa.gov. To request accommodation of a disability, please contact Ms. White, preferably at least ten business days prior to the meeting, to give EPA as much time as possible to process your request.

Dated: January 26, 2006.
Anthony F. Maciorowski,
Associate Director for Science, EPA Science Advisory Board Staff Office.

[FR Doc. E6-1350 Filed 1-31-06; 8:45 am]

BILLING CODE 6560-50-P